DEPARTMENT OF HOMELAND SECURITY

Federal Emergency Management Agency

[Docket ID FEMA-2010-0009]

Agency Information Collection Activities: Submission for OMB Review; Comment Request, OMB No. 1660-NEW; Environmental and Historic Preservation Environmental Screening Form

AGENCY: Federal Emergency Management Agency, DHS.

ACTION: Notice; 30-day notice and request for comments; new information collection; OMB No. 1660-NEW; FEMA Form 024-0-1, Environmental and Historic Preservation Environmental Screening Form.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before August 2, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections@dhs.gov.

SUPPLEMENTARY INFORMATION:

Collection of Information

Title: Environmental and Historic Preservation Environmental Screening Form.

Type of information collection: New information collection.

OMB Number: 1660-NEW.

Form Titles and Numbers: Environmental and Historic Preservation Environmental Screening Form, FEMA Form 024-0-1.

Abstract: In efforts to examine the impact of its actions on the environment, look at potential alternatives to that action, inform both decision-makers and the public of those impacts through a transparent process, and pursue mitigation if necessary, grant recipients need to provide information that their actions will comply with all related laws and regulations.

Affected Public: State, Local or Tribal Government; Business or other for profit.

Estimated Number of Respondents: 1,323.

Frequency of Response: On occasion.

Estimated Average Hour Burden per Respondent: 8 hours. The estimated average hour burden per respondent has changed since publication of the 60-day Federal Register Notice at 75 FR 13772, Mar. 23, 2010.

Estimated Total Annual Burden Hours: 10,584 hours. The estimated total annual burden hours has changed since publication of the 60-day Federal Register Notice at 75 FR 13772, Mar. 23, 2010.

Estimated Cost: There is no annual reporting recordkeeping cost associated with this collection.

Dated: June 25, 2010.
Tammi Hines,
Acting Director, Records Management Division, Mission Support Bureau, Federal Emergency Management Agency, Department of Homeland Security.

[FR Doc. 2010-16047 Filed 6-30-10; 8:45 am]

BILLING CODE 9111-78-P